ENVIRONMENTAL PROTECTION AGENCY

[ER-FRL-6621-2]

Environmental Impact Statements; Notice of Availability

Responsible Agency: Office of Federal Activities, General Information (202) 564-7167 or www.epa.gov/oeca/ofa.

Weekly receipt of Environmental Impact Statements Filed August 13, 2001 Through August 17, 2001 Pursuant to 40 CFR 1506.9.

EIS No. 010305, Draft Supplement, FAA, MN, Flying Cloud Airport, Substantive Changes to Alternatives and New Information, Extension of the Runways 9R/27L and 9L/27R, Long-Term Comprehensive Development, In the City of Eden Prairie, Hennepin County, MN, Comment Period Ends: October 09, 2001, Contact: Glen Orcutt (612) 713-4354.

EIS No. 010306, Draft EIS, AFS, MT, Beaverhead-DeerLodge National Forest, Noxious Weed Control Program, Implementation, Integrated Weed Management, Dillon County, MT, Comment Period Ends: October 09, 2001, Contact: Peri Suenram (406) 683-3967. This document is available on the Internet at: www.fs.fed.us/rl/b-d/.

EIS No. 010307, Final EIS, BLM, WY, North Jacobs Ranch Coal Lease Application (WYW 146744), Federal Coal Tract, Located in the Powder River Basin, Campbell County, WY, Wait Period Ends: September 24, 2001, Contact: Nancy Doelger (307) 261-7627.

EIS No. 010308, Draft EIS, BOP, PA, Northumberland County Federal Correctional Institution Construction and Operation, Site Locations: Coal Township, Mt. Carmel Township, Natalie East or The Sagon, Northumberland County, PA, Comment Period Ends: October 09, 2001, Contact: David J. Dorworth (202) 514-6470.

EIS No. 010309, Final EIS, AFS, MT, Hemlock Point Access Project, Construction of 860 feet of Low Standard Road, Plum Creek, Swan Valley, Flathead National Forest, Missoula County, MT, Wait Period Ends: September 24, 2001, Contact: Dennis Mc Carthy (406) 758-5239.

EIS No. 010310, Draft EIS, FHW, CA, CA-905 Freeway or Tollway Construction Project, Route Location, Adoption and Construction, Otay Mesa Port of Entry to I-805, Funding and US Army COE Section 404 Permit Issuance, San Diego County, CA, Comment Period Ends: October 16, 2001, Contact: Jeffrey W. Kolb (916) 498-5037.

EIS No. 010311, Final EIS COE, RI, Providence River and Harbor Maintenance Dredging Project, To Restore the Navigation Efficiency, Providence River Shipping Channel, Narragansett Bay, RI, Wait Period Ends: October 01, 2001, Contact: Edward O'Donnell (978) 318-8375.

EIS No. 010312, Draft EIS, BLM, AZ, Las Cienegas Resource Management Plan, Implementation, Las Cienegas National Conservation Area (NCA) and Sonoita Valley Acquisition Planning District, AZ, Comment Period Ends: November 23, 2001, Contact: Karen Simms (520) 258-7200.

EIS No. 010313, Final EIS, FHW, TN, TN-385 (Collierville-Arlington Parkway) Improvement Project, Construction from Mt. Pleasant Road to South of Interstate 40, Shelby and Fayette Counties, TN, Wait Period Ends: September 24, 2001, Contact: Charles Boyd (615) 781-5770.

EIS No. 010314, Final EIS, FHW, AR, Southeast Arkansas I-69 Connector Construction, US-278 in the vicinity of Monticello to I-530 in Pine Bluff, Funding and US Army COE Section 404 and NPDES Permits Issuance, Drew, Lincoln, Cleveland and Jefferson Counties, AR, Wait Period Ends: October 01, 2001, Contact: Army H. Helfin (501) 324-6435.

EIS No. 010315, Draft EIS, FHW, WA, I-405 Corridor Transportation Improvements, I-5 in the City of Tukwila to I-5 in Snohomish County, Funding and Possible COE Section 404 Permits Issuance, King and Snohomish Counties, CA, Comment Period Ends: October 09, 2001, Contact: James Leonard (FHWA) (360) 753-9408.

The US Department of Transportation's Federal Highway Administration and Federal Transit Authority (FTA) are Joint Lead Agencies for the above project. John Witmar is the Contact for FTA, phone No. 206-220-7964.

EIS No. 010316, Final EIS, EPA Proposed Rule on Environmental Impact Assessment of Nongovernmental Activities in Antarctica, To Implement the Protocol on Environmental Protection to the Antarctic Treaty of 1959, Wait Period Ends: September 24, 2001, Contact: Katherine Biggs (202) 564-7144. This document is available on the Internet at: http://es.epa.gov/oeca/ofa/index/html.

EIS No. 010317, Final EIS, AFS, MT, Pink Stone Fire Recovery and Associated Activities, Reduction of Existing and Expected Future Fuel Accumulations, Kootena National Forest, Rexford Ranger District, Lincoln County, MT, Wait Period Ends: September 24, 2001, Contact: Annie Dueker (406) 296-2536.

EIS No. 010318, Final EIS, AFS, CO, Baylor Park Blowdown Project, Salvage and Treat Down and Damaged Timber, To Reduce Impact of Spruce Bettles, Implementation, White River National Forest, Sopris and Rifle Ranger Districts, Garfield, Mesa, and Pitkin Counties, CO, Wait Period Ends: September 24, 2001, Contact: Jan Spencer (970) 945-2521.

EIS No. 010319, Draft EIS, DOE, OR, Umatilla Generating Project, Construction and Operation, Gas-Fired Combined Cycle Electric Power Generation Plant, Nominal Generation Capacity of 550 megawatts (MW) Connection to the Regional Grid at McNary Substation, Umatilla County, AZ, Comment Period Ends: October 15, 2001, Contact: Inez Graetzer (503) 230-3786. This document is available on the Internet at: www.efw.bpa.gov

EIS No. Final EIS, FAA, GA, Hartsfield Atlanta International Airport, Construction and Operation of the 9,000-Foot Fifth Runway and Associated Projects, Approval of Airport Layout Plan (ALP), City of Atlanta, Fulton and Clayton Counties, GA, Wait Period Ends: September 24, 2001, Contact: Donna M. Meyer (404) 305-7150.

Amended Notices

EIS No. 010142, Draft EIS, AFS, UT, Uinta National Forest Revised Land and Resource Management Plan, Implementation, Juab, Sanpete, Tooele, Utah and Wasatch Counties, UT, Due: September 17, 2001, Contact: Peter W. Karp (801) 377-5780.

Revision of FR Notice Published on 05/04/2001: CEQ Review Period Ending on 08/02/2001 has been Extended to 09/17/2001.

Dated: August 21, 2001.
Joseph C. Montgomery,
Director, NEPA Compliance Division, Office of Federal Activities.

[FR Doc. 01-21449 Filed 8-23-01; 8:45 am]

BILLING CODE 6560-50-M